DEPARTMENT OF STATE

[Public Notice 6637]

U.S. Department of State Advisory Committee on Private International Law: Study Group on the Hague Convention on Choice of Court Agreements

A Study Group on the 2005 Hague Convention on Choice of Court Agreements is being established under the Department of State Advisory Committee on Private International Law to consider issues relating to domestic implementation of the Convention. This is not a meeting of the full Advisory Committee.

The United States signed the Convention on January 19, 2009. The State Department is considering submission of the Convention to the Senate for its advice and consent to ratification. It is expected that the Convention will be accompanied by federal implementing legislation. The Study Group will be invited to comment on the content of such legislation, on the question of whether federal implementing legislation might be supplemented by a uniform state law, and on the question of what declarations the United States might make in its instrument of ratification.

Time and Place: The public meeting of the Study Group will take place in Room 240, South Building, 2430 E St., NW., Washington, DC on July 27, 2009. Visitors should appear at the gate at the southwest corner of 23rd and C Streets by 8:45 a.m. EDT. The meeting will begin at 9 a.m. and is scheduled to last until 5 p.m., with a lunch break from noon-2 p.m. If you are unable to attend the public meeting and would like to participate from a remote location, teleconferencing will be available.

Public Participation: Advisory Committee Study Group meetings are open to the public. Persons wishing to attend must, before July 20, contact Trisha Smeltzer at smeltzertk@state.gov or 202-776-8423 and provide their name, date of birth, and social security number for pre-clearance purposes, as well as e-mail address and affiliation. Please contact Ms. Smeltzer for additional meeting information, including teleconferencing dial-in details. Persons who cannot attend or participate by telephone but who wish to comment on the topics referred to above may do so by e-mail to Ms. Smeltzer.

Dated: June 9, 2009.
Keith Loken,
Assistant Legal Adviser, Office of Private International Law, Office of the Legal Adviser, Department of State.

[FR Doc. E9-15167 Filed 6-25-09; 8:45 am]

BILLING CODE 4710-08-P